DEPARTMENT OF DEFENSE

GENERAL SERVICES ADMINISTRATION

NATIONAL AERONAUTICS AND SPACE ADMINISTRATION

[OMB Control No. 9000-0069; Docket No. 2019-0003; Sequence No. 20]

Information Collection; Indirect Cost Rates, Predetermined Indirect Cost Rates, and Bankruptcy Notifications

AGENCY: Department of Defense (DOD), General Services Administration (GSA), and National Aeronautics and Space Administration (NASA).

ACTION: Notice and request for comments.

SUMMARY: In accordance with the Paperwork Reduction Act of 1995 and the Office of Management and Budget (OMB) regulations, the FAR Council invites the public to comment upon a renewal concerning indirect cost rates, predetermined indirect cost rates, and bankruptcy notifications.

DATES: Submit comments on or before July 30, 2019.

ADDRESSES: The FAR Council invites interested persons to submit comments on this collection by either of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0069, Indirect Cost Rates, Predetermined Indirect Cost Rates, and Bankruptcy Notifications.

Instructions: All items submitted must cite Information Collection 9000-0069, Indirect Cost Rates, Predetermined Indirect Cost Rates, and Bankruptcy Notifications. Comments received generally will be posted without change to http://www.regulations.gov, including any personal and/or business confidential information provided. To confirm receipt of your comment(s), please check www.regulations.gov, approximately two to three days after submission to verify posting (except allow 30 days for posting of comments submitted by mail). This information collection is pending at the FAR Council. The Council will submit it to OMB within 60 days from the date of this notice.

FOR FURTHER INFORMATION CONTACT: Zenaida Delgado, Procurement Analyst, at telephone 202-969-7207, or zenaida.delgado@gsa.gov.

SUPPLEMENTARY INFORMATION:

A. Overview of Information Collection

Description of the Information Collection

1. OMB Control Number: 9000-0069.

2. Title of the Collection: Indirect Cost Rates, Predetermined Indirect Cost Rates, and Bankruptcy Notifications.

3. Type of Information Collection: Revision/Renewal of a currently approved collection.

Solicitation of Public Comment

Written comments and suggestions from the public should address one or more of the following four points:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

B. Purpose

The Federal Acquisition Regulatory Council is in the process of combining OMB Control Numbers for the Federal Acquisition Regulation (FAR) by FAR part to the maximum practicable extent. This consolidation is expected to improve industry's ability to easily and efficiently identify all burdens associated with a given FAR part. The review of the information collections by FAR part allows improved oversight to ensure there is no redundant or unaccounted for burden placed on industry. Lastly, combining information collections in a given FAR part is also expected to reduce the administrative burden associated with processing multiple information collections.

This justification supports revision and extension of the expiration date of OMB Control No. 9000-0069 and combines it with the previously approved information collection OMB Control No. 9000-0108, with the new title “Indirect Cost Rates, Predetermined Indirect Cost Rates, and Bankruptcy Notifications”. Upon approval of this consolidated information collection, OMB Control No. 9000-0108 will be discontinued. The burden requirements previously approved under the discontinued Number will be covered under OMB Control No. 9000-0069.

This clearance covers the information that contractors must submit to comply with the following FAR requirements:

1. 52.216-7, Allowable Cost and Payment, paragraph (d), requires that final annual indirect cost rates and the appropriate bases shall be established in accordance with FAR subpart 42.7. These rates are used, in part, in cost reimbursement contracts, time and materials contracts (other than for commercial items and not for labor-hour contracts), and for certain types of fixed price contracts construction contracts. The clause requires the contractor to submit an adequate final indirect cost rate proposal to the contracting officer and the auditor within the 6-month period following the expiration of each of its fiscal years. The proposed rates shall be based on the contractor's actual cost experience for that period. This clause provides a list of the data required to be submitted. The data is customary business financial information that the contractor can access from its automated business systems.

2. 52.216-15, Predetermined Indirect Cost Rates, used in solicitations and contracts for a cost-reimbursement research and development contract with an educational institution and addresses how the allowable indirect costs under the contract shall be obtained by applying predetermined indirect costs to bases agreed by the parties. This clause repeats the requirement in FAR 52.216-7, paragraph (d), for the contractor to submit an adequate final indirect cost rate proposal, however it does not impose any additional reporting requirements.

3. 52.242-4, Certification of Final Indirect Costs, requires the contractor's proposal of final indirect cost rates to be certified to establish or modify the rates used to reimburse the contractor for the costs of performing under the contract. The supporting cost data are the cost accounting information normally prepared by organizations under sound management and accounting practices. This clause is incorporated into all solicitations and contracts, except for the Department of Energy Management and Operating contracts, that provide for establishment of final indirect cost rates.

4. 52.242-13, Bankruptcy. This clause requires contractors to notify the contracting officer within five days after initiating the proceedings relating to bankruptcy filing.

C. Annual Reporting Burden

Respondents: 6,145.

Total Annual Responses: 6,145.

Total Burden Hours: 1,578,868.

Affected Public: Businesses or other for-profit and not-for-profit institutions.

Frequency: On occasion.

Obtaining Copies: Requesters may obtain a copy of the information collection documents from the General Services Administration, Regulatory Secretariat Division (MVCB), 1800 F Street NW, Washington, DC 20405, telephone 202-501-4755. Please cite OMB Control No. 9000-0069, Indirect Cost Rates, Predetermined Indirect Cost Rates, and Bankruptcy Notifications, in all correspondence.

Dated: May 24, 2019.
Janet Fry,
Director, Federal Acquisition Policy Division, Office of Governmentwide Acquisition Policy, Office of Acquisition Policy, Office of Governmentwide Policy.

[FR Doc. 2019-11346 Filed 5-30-19; 8:45 am]

BILLING CODE 6820-EP-P